NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: February 19, 2009, 8:30 a.m.-5:30 p.m.; February 20, 2009, 8:30 a.m.-2 p.m.

Place: National Science Foundation (NSF), 4201 Wilson Boulevard, Room 1235, Arlington, VA 22230.

To help facilitate your access into the building, please contact the individual listed below prior to the meeting so that a visitors badge may be prepared for you in advance.

Type of Meeting: Open.

Contact Person: Dr. Margaret E.M. Tolbert, Senior Advisor and CEOSE Executive Liaison, Office of Integrative Activities, National Science Foundation, 4201 Wilson Boulevard, Arlington, VA 22230.

Telephone Numbers: (703) 292-4216, (703) 292-8040, mtolbert@nsf.gov.

Minutes: Minutes may be obtained from the Executive Liaison at the above address or the Web site at http://www.nsf.gov/od/oia/activities/ceose/index.jsp.

Purpose of Meeting: To study NSF programs and policies and provide advice and recommendations concerning broadening participation in science and engineering.

Agenda

Thursday, February 19, 2009

Opening Statement by the CEOSE Chair

Presentations and Discussions:

✓ Communicating Science Broadly

✓ Discussion of Recommendations from the October 29, 2008 Mini-Symposium on Native Americans

✓ Conversation with the NSF Director

✓ Presentation on the Policy White paper on Women of Color in STEM

✓ Roundtable Discussion by NSF Assistant Directors and Office Directors: Diversity Issues & Recent Broadening Participation Activities

✓ Concurrent Meetings of CEOSE Ad Hoc Subcommittees

✓ Reports of CEOSE Ad Hoc Subcommittees, Including the Status of the Preparation of the Biennial Report to Congress and Comments by Federal Agency Liaisons

Friday, February 20, 2009

Opening Statement by the CEOSE Chair

Presentations and Discussions:

✓ A Science of Broadening Participation

✓ Discussion: The CEOSE Path Forward

✓ Reports by CEOSE Liaisons to Advisory Committees of the National Science Foundation

✓ Completion of Unfinished Business

Dated: January 27, 2009.
Susanne Bolton,
Committee Management Officer.

[FR Doc. E9-2046 Filed 1-29-09; 8:45 am]

BILLING CODE 7555-01-P